DEPARTMENT OF COMMERCE

National Institute of Standards and Technology

Notice of Licensing

AGENCY: National Institute of Standards and Technology, Commerce.

ACTION: Notice of jointly owned inventions available for licensing.

SUMMARY: The inventions listed below are jointly owned by the U.S. Government, as represented by the Department of Commerce. The Department of Commerce's interest in these inventions is available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Attn: Teresa Bradshaw, Building 820, Room 213, Gaithersburg, MD 20899. Information is also available via telephone: 301-975-2624, fax 301-869-2751, or e-mail: teresa.bradshaw@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 03-005]

Title: Dielectric Slit Die for In-line Monitoring of Liquids Processing.

Abstract: This invention is jointly owned by the U.S. Government, as represented by the Department of Commerce, and Chemical ElectroPhysics. The dielectric slit die is an instrument that is designed to measure electrical, rheological, ultrasonics, optical and other properties of a flowing liquid. In one application, it is connected to the exit of an extruder, pump or mixing machine that passes liquefied material such as molten plastic, solvents, slurries, colloidal suspensions and foodstuffs into the sensing region of the slit shaped die. Dielectric sensing is the primary element of the slit die, but in addition to the dielectric sensor, the die contains other sensing devices such as pressure, optical fiber and ultrasonic sensors that simultaneously yield an array of materials property data. The slit die has a flexible design that permits interchangeability among sensors and sensor positions. The design also allows for the placement of additional sensors and instrumentation ports that expand the potential data package obtained.

[NIST Docket Number: 03-014/02-012]

Title: Micromachined Alkali-atom Vapor Cells and Method of Fabrication.

Abstract: This invention is jointly owned by the U.S. Government, as represented by the Department of Commerce, and the University of Colorado. A method of fabricating compact alkali vapor filled cells that have volumes of 1 cm.sup.3 or less that are useful in atomic frequency reference devices such as atomic clocks. According to one embodiment the alkali vapor filled cells are formed by sealing the ends of small hollow glass fibers. According to another embodiment the alkali vapor filled cells are formed by anodic bonding of glass plates to silicon wafers to seal the openings of holes formed in the silicon wafers. The anodic bonding method of fabricating the alkali vapor filled cells enables the production of semi-monolithic integrated physics packages of various designs.

[NIST Docket Number: 04-001]

Title: A Microfluidic Flow-through Immunoassay for Simultaneous Detection of Multiple proteins in a Sub-microliter Biological Sample.

Abstract: This invention is jointly owned by the U.S. Government, as represented by the Department of Commerce, and the National Institutes of Health. A chip-based microfluidic device for high-throughput, multi-analyte immunoaffinity capture and detection of proteins can be used for the simultaneous isolation and quantitation of multiple proteins from microliter samples of biological fluids. The device architecture has advantages over existing array technology in that the proteins are detected by single-point capture and much smaller sample volumes can be used. The device also has the potential to greatly reduce the cost of analyzing a sample through reuse of the channels with the bound antibodies for multiple samples. The device can be integrated into the other analytic equipment or on-chip detectors.

Dated: April 13, 2005.
Hratch G. Semerjian,
Acting Director.

[FR Doc. 05-8111 Filed 4-21-05; 8:45 am]

BILLING CODE 3510-13-P